SMALL BUSINESS ADMINISTRATION

[Disaster Declaration #12292]

Alaska Disaster #AK-00018 Declaration of Economic Injury

AGENCY: U.S. Small Business Administration.

ACTION: Notice.

SUMMARY: This is a notice of an Economic Injury Disaster Loan (EIDL) declaration for the State of Alaska, dated 08/27/2010.

Incident: Alaska Gateway REAA Flooding & Road Closures.

Incident Period: 07/10/2010 and continuing.

DATES: Effective Date: 08/27/2010.

EIDL Loan Application Deadline Date: 05/27/2011.

ADDRESSES: Submit completed loan applications to:

U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: Notice is hereby given that as a result of the Administrator's EIDL declaration, applications for economic injury disaster loans may be filed at the address listed above or other locally announced locations.

The following areas have been determined to be adversely affected by the disaster:

Primary Counties: Alaska Gateway Reaa (03).

Contiguous Counties: Alaska:

Copper River Reaa (11), Delta/Greely (14), Fairbanks North Star Borough, Yukon Flats Reaa (51).

The Interest Rates are:

| Percent
Businesses And Small Agricultural Cooperatives Without Credit Available Elsewhere | 4.000
Non-Profit Organizations Without Credit Available Elsewhere | 3.000

The number assigned to this disaster for economic injury is 122920.

The States which received an EIDL Declaration # are Alaska.

(Catalog of Federal Domestic Assistance Number 59002)

Dated: August 27, 2010.
Karen G. Mills,
Administrator.

[FR Doc. 2010-22288 Filed 9-7-10; 8:45 am]

BILLING CODE 8025-01-P